DEPARTMENT OF COMMERCE

International Trade Administration

[A-570-983]

Notice of Final Results of Antidumping Duty Changed Circumstances Review: Drawn Stainless Steel Sinks From the People's Republic of China

AGENCY: Enforcement and Compliance, International Trade Administration, Department of Commerce

SUMMARY: On February 12, 2016, the Department of Commerce (the Department) published its notice of initiation and preliminary results of a changed circumstances review of the antidumping duty order on drawn stainless steel sinks (drawn sinks) from the People's Republic of China (PRC).¹ In that notice, we preliminarily determined that Ningbo Afa Kitchen and Bath Co., Ltd. (Ningbo) is the successor-in-interest to Yuyao Afa Kitchenware Co., Ltd. (Yuyao) for purposes of determining antidumping duty cash deposits and liabilities. No interested party submitted comments in opposition to the Initiation and Preliminary Results. For these final results, the Department continues to find that Ningbo is the successor-in-interest to Yuyao.

¹ See Notice of Initiation and Preliminary Results of Antidumping Duty Changed Circumstances Review: Drawn Stainless Steel Sinks From the People's Republic of China, 81 FR 7504 (February 12, 2016) (Initiation and Preliminary Results).

DATES: Effective March 25, 2016.

FOR FURTHER INFORMATION CONTACT: Ross Belliveau or Brian Smith, AD/CVD Operations, Office II, Enforcement and Compliance, International Trade Administration, U.S. Department of Commerce, 1401 Constitution Avenue NW., Washington, DC 20230; telephone: (202) 482-4952 or (202) 482-1766, respectively.

SUPPLEMENTARY INFORMATION:

Background

On April 11, 2013, the Department published in the Federal Register an AD order on drawn sinks from the PRC.² On November 19, 2015, Yuyao, a producer/exporter of drawn sinks covered by this order, changed its name from Yuyao to Ningbo. On December 22, 2015, Ningbo requested that the Department conduct a changed circumstances review under section 751(b) of the Tariff Act of 1930, as amended (the Act) and 19 CFR 351.216.³ In this request, Ningbo asked the Department to determine that it is the successor-in-interest to Yuyao and, accordingly, to assign it the cash deposit rate of Yuyao.⁴

² See Drawn Stainless Steel Sinks from the People's Republic of China: Amended Final Determination of Sales at Less Than Fair Value and Antidumping Duty Order, 78 FR 21592 (April 11, 2013).

³ See Letter from Ningbo, entitled “Drawn Stainless Steel Sinks from the People's Republic of China: Request for Changed Circumstances Review by Yuyao Afa Kitchenware Co., Ltd. and Ningbo Afa Kitchen and Bath Co., Ltd.,” dated December 22, 2015.

⁴ Id.

On February 12, 2016, the Department published its notice of initiation and preliminary results of this changed circumstances review, determining that Ningbo is the successor-in-interest to Yuyao.⁵ In the Initiation and Preliminary Results, we provided all interested parties with an opportunity to comment and to request a public hearing regarding our preliminary finding that Ningbo is the successor-in-interest to Yuyao. On February 26, 2016, Ningbo submitted comments in support of our preliminary finding.⁶ We received no comments in opposition to our preliminary finding and no requests for a public hearing from interested parties within the time period set forth in the Initiation and Preliminary Results.

⁵ See Initiation and Preliminary Results.

⁶ See Letter from Ningbo, entitled “Drawn Stainless Steel Sinks from the People's Republic of China: Comments on Changed Circumstances Review by Yuyao Afa Kitchenware Co., Ltd. and Ningbo Afa Kitchen and Bath Co., Ltd.,” dated February 26, 2016.

Scope of the Order

The products covered by the scope of this order are drawn stainless steel sinks with single or multiple drawn bowls, with or without drain boards, whether finished or unfinished, regardless of type of finish, gauge, or grade of stainless steel. Mounting clips, fasteners, seals, and sound-deadening pads are also covered by the scope of this order if they are included within the sales price of the drawn stainless steel sinks. For purposes of this scope definition, the term “drawn” refers to a manufacturing process using metal forming technology to produce a smooth basin with seamless, smooth, and rounded corners. Drawn stainless steel sinks are available in various shapes and configurations and may be described in a number of ways including flush mount, top mount, or undermount (to include the attachment relative to the countertop). Stainless steel sinks with multiple drawn bowls that are joined through a welding operation to form one unit are covered by the scope of the order. Drawn stainless steel sinks are covered by the scope of the order whether or not they are sold in conjunction with non-subject accessories such as faucets (whether attached or unattached), strainers, strainer sets, rinsing baskets, bottom grids, or other accessories.

Excluded from the scope of the order are stainless steel sinks with fabricated bowls. Fabricated bowls do not have seamless corners, but rather are made by notching and bending the stainless steel, and then welding and finishing the vertical corners to form the bowls. Stainless steel sinks with fabricated bowls may sometimes be referred to as “zero radius” or “near zero radius” sinks.

The products covered by this order are currently classified in the Harmonized Tariff Schedule of the United States (HTSUS) under statistical reporting number 7324.10.0000 and 7324.10.0010. Although the HTSUS subheadings are provided for convenience and customs purposes, the written description of the scope is dispositive.

Final Results of Changed Circumstances Review

For the reasons stated in the Initiation and Preliminary Results, and because we received no comments from interested parties to the contrary, the Department continues to find that Ningbo is the successor-in-interest to Yuyao. As a result of this determination, we find that Ningbo should receive the cash deposit rate previously assigned to Yuyao in the most recently completed review of the antidumping duty order on drawn sinks from the PRC.⁷ Consequently, the Department will instruct U.S. Customs and Border Protection to suspend liquidation of all shipments of subject merchandise produced or exported by Ningbo and entered, or withdrawn from warehouse, for consumption on or after the publication date of this notice in the Federal Register at 4.29 percent, which is the current antidumping duty cash deposit rate for Yuyao.⁸ This cash deposit requirement shall remain in effect until further notice.

⁷ See Drawn Stainless Steel Sinks From the People's Republic of China: Final Results of the Antidumping Duty Administrative Review; 2012-2014, 80 FR 69644 (November 10, 2015) (AR1 Final Results).

⁸ Yuyao received a 4.29 percent dumping margin in the 2012-2014 administrative review of the AD order on drawn sinks from the PRC. See AR1 Final Results at 69645. We note that Yuyao is also a respondent in the current 2014-2015 administrative review of this antidumping duty order. See Initiation of Antidumping and Countervailing Duty Administrative Reviews, 80 FR 30041 (May 26, 2015). Because we determined that Ningbo is the successor-in-interest to Yuyao, we will assign Ningbo an updated cash deposit rate based on the final results of that administrative review.

We are issuing this determination and publishing these final results and notice in accordance with sections 751(b)(1) and 777(i)(1) and (2) of the Act and 19 CFR 351.216 and 351.221(c)(3).

Dated: March 21, 2016.
Paul Piquado,
Assistant Secretary for Enforcement and Compliance.

[FR Doc. 2016-06847 Filed 3-24-16; 8:45 am]

BILLING CODE 3510-DS-P